DEPARTMENT OF HEALTH AND HUMAN SERVICES

Centers for Disease Control and Prevention

[30Day-13-0819]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC or by fax to (202) 395-5806. Written comments should be received within 30 days of this notice.

Proposed Project

Nationally Notifiable Sexually Transmitted Disease (STD) Morbidity Surveillance (OMB No. 0920-0819, Expiration 08/31/2012)—Reinstatement with Change—National Center for HIV, Viral Hepatitis, STD and TB Prevention (NCHHSTP), Centers for Disease Control and Prevention (CDC).

Background and Brief Description

Because the STD epidemiology in the United States is changing rapidly, CDC must continue to monitor disease indicators that are included in the STD surveillance currently being implemented. CDC is proposing to continue electronic information collection which includes information elements that are integrated into the existing nationally notifiable STDs. These information elements are beyond the scope of the OMB-approved collection called Weekly and Annual Morbidity and Mortality Reports (MMWR, OMB #0920-0007). This ongoing collection will have a title change from “Sexually Transmitted Disease (STD) Morbidity Surveillance” to “Nationally Notifiable Sexually Transmitted Disease (STD) Morbidity Surveillance and provides evidence to better define STD distribution and epidemiology in the United States. The surveillance system modifies several data elements currently included in the MMWR collection and add others to produce a set of sensitive indicators. This surveillance will continue to provide the evidence to enhance our understanding of STDs, develop intervention strategies, and evaluate the impact of ongoing control efforts. CDC works closely with state and local STD control programs to monitor and respond to STD outbreaks and trends in STD-associated risk behavior. Users of data include, but are not limited to, congressional offices, state and local health agencies, health care providers, and other health-related groups.

CDC disseminates all STD surveillance information through the MMWR series of publications, including the MMWR, the CDC Surveillance Summaries, the Recommendations and Reports, and the annual Summary of Notifiable Diseases, United States. Additionally, DSTDP publishes an annual STD-specific surveillance summary and supplements in hard copy and on the Internet http://www.cdc.gov/std/Stats/. CDC will use the findings from this and other STD surveillance to develop guidelines, control strategies, and impact measures that monitor trends in STDs in the United States. We expect a total of 57 sites in state, city, and territory health departments will be submitting STD morbidity information to CDC each week.

There is no cost to respondents other than their time. The total estimated annualized burden hours are 989.

Estimate of Annualized Burden Table
Types of respondent | Form name | Number of respondents | Number of responses per respondent | Average burden per response (in hours)
State Health Departments | Electronic STD Case report | 50 | 52 | 20/60
Territorial Health Agencies | Electronic STD Case report | 5 | 52 | 20/60
City and county health departments | Electronic STD Case report | 2 | 52 | 20/60

Dated: November 2, 2012.
Ron A. Otten,
Director, Office of Scientific Integrity (OSI), Office of the Associate Director for Science (OADS), Office of the Director, Centers for Disease Control and Prevention.

[FR Doc. 2012-27832 Filed 11-15-12; 8:45 am]

BILLING CODE 4163-18-P